DEPARTMENT OF COMMERCE

International Trade Administration

[A-570-935]

Circular Welded Carbon-Quality Steel Line Pipe From the People's Republic of China: Final Results of the Expedited First Sunset Review of the Antidumping Duty Order

AGENCY: Enforcement and Compliance, formerly Import Administration, International Trade Administration, Department of Commerce

SUMMARY: As a result of this sunset review, the Department of Commerce (“the Department”) finds that revocation of the antidumping duty (“AD”) order on circular welded carbon-quality steel line pipe (“welded line pipe”) from the People's Republic of China (“PRC”) would be likely to lead to continuation or recurrence of dumping. The magnitude of the dumping margins likely to prevail is indicated in the “Final Results of Sunset Review” section of this notice.

DATES: Effective Date: April 7, 2014.

FOR FURTHER INFORMATION CONTACT: Lori Apodaca or Howard Smith, AD/CVD Operations, Office IV, Enforcement and Compliance, International Trade Administration, U.S. Department of Commerce, 14th Street and Constitution Avenue NW., Washington, DC 20230; telephone: (202) 482-4551 or (202) 482-5193, respectively.

SUPPLEMENTARY INFORMATION:

Background

On May 13, 2009, the Department published the AD order on welded line pipe from the PRC.¹ On December 2, 2013, the Department published the notice of initiation of the sunset review of this AD order, pursuant to section 751(c) of the Act.² On December 11 and 17, 2013, pursuant to 19 CFR 351.218(d)(1), the Department received timely and complete notices of intent to participate in the sunset review of the order from American Cast Iron Pipe Company (“ACIPCO”), JMC Steel Group (“JMC”), Maverick Tube Corporation (“Maverick”), Stupp Corporation (“Stupp”), Tex-Tube Company (“Tex-Tube”), TMK IPSCO, United States Steel Corporation (“U.S. Steel”), and Welspun Tubular LLC USA (“Welspun”) (collectively “Domestic Producers”). On January 2, 2014, pursuant to 19 CFR 351.218(d)(3), Domestic Producers filed a timely and adequate substantive response. The Department did not receive substantive responses from any respondent interested party. As a result, pursuant to section 751(c)(3)(B) of the Act and 19 CFR 351.218(e)(1)(ii)(C)(2), the Department conducted an expedited (120-day) sunset review of this AD order.

¹ See Certain Circular Welded Carbon Quality Steel Line Pipe from the People's Republic of China: Antidumping Duty Order, 74 FR 22515 (May 13, 2009) (“Antidumping Duty Order”).

² See Initiation of Five-Year (“Sunset”) Review, 78 FR 72061 (December 2, 2013) (“Sunset Initiation”).

Scope of the Order

The merchandise covered by this order is circular welded carbon quality steel pipe of a kind used for oil and gas pipelines (welded line pipe), not more than 406.4 mm (16 inches) in outside diameter, regardless of wall thickness, length, surface finish, end finish or stenciling.

The welded line pipe products that are the subject of this order are currently classifiable in the Harmonized Tariff Schedule of the United States (“HTSUS”) under subheadings 7306.19.10.10, 7306.19.10.50, 7306.19.51.10, and 7306.19.51.50. While HTSUS subheadings are provided for convenience and customs purposes, the written description of the scope of this order is dispositive.

Analysis of Comments Received

A complete discussion of all issues raised in this sunset review is provided in the accompanying I&D Memorandum, which is hereby adopted by this notice.³ The issues discussed in the I&D Memorandum include the likelihood of continuation or recurrence of dumping and the magnitude of the dumping margins likely to prevail if the order is revoked. The I&D Memorandum is a public document and is on file electronically via Enforcement and Compliance's Antidumping and Countervailing Duty Centralized Electronic Service System (“IA ACCESS”). Access to IA ACCESS is available in the Central Records Unit, room 7046 of the main Department of Commerce building. In addition, a complete version of the I&D Memorandum can be accessed at http://enforcement.trade.gov/frn/. The signed I&D Memorandum and the electronic version of the I&D Memorandum are identical in content.

³ See “Issues and Decision Memorandum for the Expedited First Sunset Review of the Antidumping Duty Order on Circular Welded Carbon-Quality Steel Line Pipe from the People's Republic of China,” from Christian Marsh, Deputy Assistant Secretary for Antidumping and Countervailing Duty Operations, to Paul Piquado, Assistant Secretary for Enforcement and Compliance, dated concurrently with this notice (“I&D Memorandum”).

Final Results of Sunset Reviews

The Department determines that revocation of the AD order on welded line pipe from the PRC would be likely to lead to continuation or recurrence of dumping, with the following dumping margins likely to prevail:

Exporter/producer | Weighted-average percentage margin
Huludao Steel Pipe Industrial Co., Ltd./Huludao City Steel Pipe Industrial Co., Ltd | 73.87
Produced by: Huludao Steel Pipe Industrial Co., Ltd./Huludao City Steel Pipe Industrial Co., Ltd.
Pangang Group Beihai Steel Pipe Corporation | 73.87
Produced by: Pangang Group Beihai Steel Pipe Corporation
Jiangsu Yulong Steel Pipe Co., Ltd | 73.87
Produced by: Jiangsu Yulong Steel Pipe Co., Ltd.
Tianjin Xingyuda Import and Export Co., Ltd | 73.87
Produced by: Tianjin Lifengyuanda Steel Pipe Group Co., Ltd.
PRC-Wide Rate | 101.10

Notification Regarding Administrative Protective Orders

This notice also serves as the only reminder to parties subject to administrative protective orders (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing these results and notice in accordance with sections 751(c), 752(c), and 777(i)(1) of the Act and 19 CFR 351.218.

Dated: March 28, 2014.
Paul Piquado,
Assistant Secretary for Enforcement and Compliance.

[FR Doc. 2014-07595 Filed 4-4-14; 8:45 am]

BILLING CODE 3510-DS-P